DEPARTMENT OF HEALTH AND HUMAN SERVICES

Centers for Disease Control and Prevention

Center for State, Tribal, Local, and Territorial Support (CSTLTS), CDC/ATSDR Tribal Advisory Committee (TAC) Meeting

AGENCY: Centers for Disease Control and Prevention (CDC), Department of Health and Human Services (HHS).

ACTION: Notice of meeting.

SUMMARY: The Centers for Disease Control and Prevention (CDC)/Agency for Toxic Substances and Disease Registry (ATSDR), announces the Winter 2020 CDC/ATSDR Tribal Advisory Committee (TAC) meeting. The meeting is being hosted by CDC/ATSDR, in-person only, and is open to the public, except for certain hours set aside for tribal caucus. Attendees must pre-register for the event by Friday, February 21, 2020, at the following link: https://www.cdc.gov/tribal/meetings.html.

DATES: The meeting will be held March 12, 2020, 9:30 a.m. to 5:30 p.m., EDT; and March 13, 2020, 9:30 a.m. to 5:30 p.m., EDT.

ADDRESSES: CDC, Chamblee Campus, Building 106, Rooms 1A/1B, 4770 Buford Highway, Atlanta, GA 30341-3717.

FOR FURTHER INFORMATION CONTACT: CAPT Carmen Clelland, PharmD, MPA, MPH, Director, Office of Tribal Affairs and Strategic Alliances, Center for State, Tribal, Local, and Territorial Support, CDC, 4770 Buford Highway, Mailstop V18-4, Atlanta, GA 30341-3717; Telephone: (404) 498-2205; Email: cclelland@cdc.gov.

SUPPLEMENTARY INFORMATION: This meeting is being held in accordance with Presidential Executive Order No. 13175, November 6, 2000, and the Presidential Memorandum of November 5, 2009, and September 23, 2004, Consultation and Coordination with Indian Tribal Governments.

Purpose: The purpose of the TAC meeting is to advance CDC/ATSDR support for and collaboration with American Indian and Alaska Native (AI/AN) tribal nations and to improve the health of AI/AN people by pursuing goals that include assisting in eliminating the health disparities faced by tribal nations; ensuring that access to critical health and human services and public health services is maximized to advance or enhance the social, physical, and economic status of AI/AN people; and promoting health equity for all AI/AN people and communities. To advance these goals, CDC/ATSDR conducts government-to-government meetings with elected tribal officials or their authorized representatives. These meetings offer open and free exchange of information and opinion among parties that leads to mutual understanding.

Information about the TAC, CDC/ATSDR's Tribal Consultation Policy, and previous meetings is available at https://www.cdc.gov/tribal/consultation-support/tribal-consultation/sessions.html.

Matters To Be Considered: The agenda will include discussions on tribal priorities for CDC and ATSDR, public health capacity in Indian Country, and programmatic highlights. AI/AN tribal nations also will have an opportunity to present testimony about tribal health issues. All tribal leaders are encouraged to submit written testimony by 5:00 p.m. (EST) Friday, February 21, 2020, to Captain Carmen Clelland, Director, Office of Tribal Affairs and Strategic Alliances, via mail at 4770 Buford Highway, Mailstop V18-4, Atlanta, GA 30341-3717, or by email to TribalSupport@cdc.gov. Guidance for developing tribal testimony for CDC/ATSDR is available at www.cdc.gov/tribal/consultation-support/tac/index.html. Based on the number of tribal leaders giving testimony and the time available, it may be necessary to limit the time for each presenter. Agenda items are subject to change as priorities dictate.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2019-28450 Filed 1-3-20; 8:45 am]

BILLING CODE 4163-18-P